CHEMICAL SAFETY AND HAZARD INVESTIGATION BOARD

Open Meeting

AGENCY: Chemical Safety and Hazard Investigation Board.

ACTION: Notice of an open meeting.

Time and Date: May 4, 2021, 11:00 a.m. EDT.

Place: The meeting will be held virtually via ZOOM. The access information will be provided by email to registrants. Registration is required via the below link: https://www.zoomgov.com/meeting/register/vJIsd-Gpqj4uE9pYMM9OFeI_McWjbP2o2Dw.

After registering, you will receive a confirmation email containing information about joining the meeting.

Status: Open to the public.

Matters To Be Considered:

The United States Chemical Safety and Hazard Investigation Board (CSB) announces that it will convene a public meeting to release its final investigation report into a fatal incident on October 26, 2019. The incident occurred when a release of water containing hydrogen sulfide—a toxic gas—occurred at a facility called a “waterflood station” which is used to improve the extraction of oil from underground oil reservoirs. The release fatally injured an employee and a member of the public. This facility is operated by Aghorn Operating, Inc. (Aghorn).

CSB staff will present its final report findings and recommendations followed by a vote by the CSB's Board. Staff presentations are preliminary and are intended to allow the Board to consider in a public forum the issues and factors involved in this case.

To submit public comments for the record please email us at public@csb.gov. Public comments sent in advance may be addressed at the meeting.

Contact Person for Further Information:

Hillary Cohen, Communications Manager, at public@csb.gov or (202) 446-8094. Further information about this public meeting can be found on the CSB website at: www.csb.gov.

Additional Information:

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meeting is free and open to the public. This meeting will only be available via ZOOM. Close captions (CC) will be provided.

In addition, any member of the public may submit written comments concerning the CSB's Aghorn Investigation at any time before or after the meeting. Comments may be submitted to Hillary Cohen at the contact information indicated above. To be considered during the meeting, comments must be received no later than 5:00 p.m. EDT on Friday, April 30, 2021, to ensure transmission to the Board prior to the meeting. Comments received after that date and time will be transmitted to the Board but may not be considered during the meeting. If you require additional assistance, please notify Hillary Cohen.

Dated: April 20, 2021.
Sabrina Morris,
Board Affairs Specialist, Chemical Safety and Hazard Investigation Board.

[FR Doc. 2021-08509 Filed 4-22-21; 8:45 am]

BILLING CODE 6350-01-P